DEPARTMENT OF ENERGY

Federal Energy Regulatory Commission

[Docket No. RP02-568-001]

Black Marlin Pipeline Company; Notice of Filing

December 6, 2002.

Take notice that on November 14, 2002, Black Marlin Pipeline Company (Black Marlin) tendered for filing in its FERC Gas Tariff Revised Volume No. 1, the following tariff sheets, with an effective date of November 1, 2002:

Substitute Original Sheet No. 223

Substitute Original Sheet No. 224

Black Marlin states that the filing is being made in compliance with the letter order issued by the Commission on October 30, 2002.

Black Marlin states that the purpose of the revised tariff filing is to : (1) adopt a high/low weekly average price index for calculating the cash-out prices for imbalances and (2) incorporate interest on any refund balances of cash-out revenues.

Any person desiring to protest said filing should file a protest with the Federal Energy Regulatory Commission, 888 First Street, NE., Washington, DC 20426, in accordance with Section 385.211 of the Commission's Rules and Regulations. All such protests must be filed on or before December 12, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 02-31325 Filed 12-11-02; 8:45 am]

BILLING CODE 6717-01-P